NUCLEAR REGULATORY COMMISSION

10 CFR Part 72

[NRC-2024-0216]

RIN 3150-AL25

List of Approved Spent Fuel Storage Casks: NAC International, Inc., MAGNASTOR® Storage System, Certificate of Compliance No. 1031, Amendment No. 15

AGENCY: Nuclear Regulatory Commission.

ACTION: Proposed rule.

SUMMARY: The U.S. Nuclear Regulatory Commission (NRC) is proposing to amend its spent fuel storage regulations by revising the NAC International, Inc. MAGNASTOR® Storage System listing within the “List of approved spent fuel storage casks” to include Amendment No. 15 to Certificate of Compliance No. 1031. Amendment No. 15 revises the certificate of compliance to add a new variation of the Lightweight MAGNASTOR® Transfer Cask design, add a new concrete cask design, increase the maximum system head load capacity, add new loading patterns, add a thermal shunt for short loading patterns, remove the 5 percent burnup penalty, increase Passive MAGNASTOR® Transfer Cask heat load, add two new pressurized-water reactor fuel types to support future operations, modify the transportable storage canister lid to allow additional clearance near the top center of the basket, and correct and clarify principal design criteria, operating procedures, and the acceptance criteria and maintenance program.

This amendment also makes corresponding revisions to previously approved drawings for the concrete cask, Technical Specifications Appendix A and Appendix B, specific chapters of the final safety analysis report, and several license drawings.

DATES: Submit comments by April 21, 2025. Comments received after this date will be considered if it is practical to do so, but the NRC is able to ensure consideration only for comments received on or before this date.

ADDRESSES: Submit your comments, identified by Docket ID NRC-2024-0216, at https://www.regulations.gov. If your material cannot be submitted using https://www.regulations.gov, call or email the individuals listed in the FOR FURTHER INFORMATION CONTACT section of this document for alternate instructions.

You can read a plain language description of this proposed rule at https://www.regulations.gov/docket/NRC-2024-0216. For additional direction on obtaining information and submitting comments, see “Obtaining Information and Submitting Comments” in the SUPPLEMENTARY INFORMATION section of this document.

FOR FURTHER INFORMATION CONTACT: Irene Wu, Office of Nuclear Material Safety and Safeguards, telephone: 301-415-1951, email: Irene.Wu@nrc.gov and Donald Habib, telephone: 301-415-1035, email: Donald.Habib@nrc.gov. Both are staff of the U.S. Nuclear Regulatory Commission, Washington, DC 20555-0001.

SUPPLEMENTARY INFORMATION:

Table of Contents

I. Obtaining Information and Submitting Comments

II. Rulemaking Procedure

III. Background

IV. Plain Writing

V. Availability of Documents

I. Obtaining Information and Submitting Comments

A. Obtaining Information

Please refer to Docket ID NRC-2024-0216 when contacting the NRC about the availability of information for this action. You may obtain publicly available information related to this action by any of the following methods:

• Federal Rulemaking Website: Go to https://www.regulations.gov and search for Docket ID NRC-2024-0216. Address questions about NRC dockets to Helen Chang, telephone: 301-415-3228, email: Helen.Chang@nrc.gov. For technical questions contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

B. Submitting Comments

The NRC encourages electronic comment submission through the Federal rulemaking website (https://www.regulations.gov). Please include Docket ID NRC-2024-0216 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Rulemaking Procedure

Because the NRC considers this action to be non-controversial, the NRC is publishing this proposed rule concurrently with a direct final rule in the Rules and Regulations section of this issue of the Federal Register. Adequate protection of public health and safety continues to be reasonably assured. The amendment to the rule will become effective on June 3, 2025. However, if the NRC receives any significant adverse comment by April 21, 2025, then the NRC will publish a document that this action and will subsequently address the comments received in a final rule as a response to the companion proposed rule published in the Proposed Rules section of this issue of the Federal Register or as otherwise appropriate. In general, absent significant modifications to the proposed revisions requiring republication, the NRC will not initiate a second comment period on this action in the event the direct final rule is withdrawn.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC to reevaluate (or reconsider) its position or conduct additional analysis;

(b) The comment raises an issue serious enough to warrant a substantive response to clarify or complete the record; or

(c) The comment raises a relevant issue that was not previously addressed or considered by the NRC.

(2) The comment proposes a change or an addition to the rule, and it is apparent that the rule would be ineffective or unacceptable without incorporation of the change or addition.

(3) The comment causes the NRC to make a change (other than editorial) to the rule, certificate of compliance, or technical specifications.

For a more detailed discussion of the proposed rule changes and associated analyses, see the direct final rule published in the Rules and Regulations section of this issue of the Federal Register.

III. Background

Section 218(a) of the Nuclear Waste Policy Act of 1982, as amended, requires that “[t]he Secretary [of the Department of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the Nuclear Waste Policy Act states, in part, that “[t]he Commission shall, by rule, establish procedures for the licensing of any technology approved by the Commission under Section 219(a) [sic: 218(a)] for use at the site of any civilian nuclear power reactor.”

To implement this mandate, the Commission approved dry storage of spent nuclear fuel in NRC-approved casks under a general license by publishing a final rule that added a new subpart K in part 72 of title 10 of the Code of Federal Regulations (10 CFR) entitled “General License for Storage of Spent Fuel at Power Reactor Sites” (55 FR 29181; July 18, 1990). This rule also established a new subpart L in 10 CFR part 72 entitled “Approval of Spent Fuel Storage Casks,” which contains procedures and criteria for obtaining NRC approval of spent fuel storage cask designs. The NRC subsequently issued a final rule on November 21, 2008 (73 FR 70587), that approved the NAC International, Inc. MAGNASTOR® Storage System design and added it to the list of NRC-approved cask designs in § 72.214, “List of approved spent fuel storage casks,” as Certificate of Compliance No. 1031.

IV. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885). The NRC requests comment on this proposed rule with respect to clarity and effectiveness of the language used.

V. Availability of Documents

The documents identified in the following table are available to interested persons as indicated.

Document | ADAMS accession No./web link/Federal Register citation
Proposed Certificate of Compliance and Proposed Technical Specifications
Proposed Certificate of Compliance No. 1031, Amendment No. 15 | ML24340A131.
Proposed Certificate of Compliance No. 1031, Amendment No. 15, Appendix A: Technical Specifications and Design Features | ML24340A132.
Proposed Certificate of Compliance No. 1031, Amendment No. 15, Appendix B: Approved Contents | ML24340A133.
Preliminary Safety Evaluation Report, Certificate of Compliance No. 1031, Amendment No. 15 | ML24340A134.
NAC International, Inc. MAGNASTOR® Storage System Amendment No. 15 Request Documents
NAC International, Inc., Submission of an Amendment Request for the MAGNASTOR® Cask System, Amendment No. 15, dated August 29, 2023 | ML23241B052 (package).
NAC International, Inc., Supplement to the Amendment Request No. 15 for the MAGNASTOR® Cask System, dated October 26, 2023 | ML23300A137 (package).
NAC International, Inc., Submission of Responses to the NRC's Request for Additional Information for MAGNASTOR® Cask System, Amendment No. 15, dated October 8, 2024 | ML24283A084 (package).
NAC International, Inc., Submission of Data Files to Support the NRC's Review of MAGNASTOR® Amendment No. 15, dated October 8, 2024 | ML24284A267.
NAC International, Inc., Submission of a Supplement for Responses to the NRC's Request for Additional Information for MAGNASTOR® Cask System, Amendment No. 15, dated December 9, 2024 | ML24344A171 (package).
Other Documents
Rulemaking Memorandum for Amendment No. 15 for the MAGNASTOR® Storage System, dated January 12, 2025 | ML24340A130.
Final Rule, “Storage of Spent Fuel in NRC-Approved Storage Casks at Power Reactor Sites,” published July 18, 1990 | 55 FR 29181.
Final Rule, “List of Approved Spent Fuel Storage Casks: MAGNASTOR Addition,” published November 21, 2008 | 73 FR 70587.
Revision to Policy Statement, “Agreement State Program Policy Statement; Correction,” published October 18, 2017 | 82 FR 48535.
Presidential Memorandum, “Plain Language in Government Writing,” published June 10, 1998 | 63 FR 31885.

The NRC may post materials related to this document, including public comments, on the Federal rulemaking website at https://www.regulations.gov under Docket ID NRC-2024-0216. In addition, the Federal rulemaking website allows members of the public to receive alerts when changes or additions occur in a docket folder. To subscribe: (1) navigate to the docket folder (NRC-2024-0216); (2) click the “Subscribe” link; and (3) enter an email address and click on the “Subscribe” link.

Dated: March 14, 2025.
For the Nuclear Regulatory Commission.
Mirela Gavrilas,
Executive Director for Operations.

[FR Doc. 2025-04650 Filed 3-19-25; 8:45 am]

BILLING CODE 7590-01-P